DEPARTMENT OF STATE

[Public Notice 5881]

State-60 Refugee Processing Center Records

SUMMARY: Notice is hereby given that the Department of State proposes to alter an existing system of records, STATE-60, pursuant to the provisions of the Privacy Act of 1974, as amended (5 U.S.C.(r)), and Office of Management and Budget Circular No. A-130, Appendix I. The Department's report was filed with the Office of Management and Budget on July 9, 2007.

It is proposed that the current system will retain the name “Refugee Processing Center Records.” It is also proposed that due to the expanded scope of the current system, the altered system description will include revisions and/or additions to the following sections: System Location; Categories of Individuals covered by the System; Authority for Maintenance of the System; and Routine Uses of Records Maintained in the System, Including Categories of Users and Purposes of such Uses. Changes to the existing system description are proposed in order to reflect more accurately the Bureau of Population, Refugees, and Migration record-keeping system, the Authority establishing its existence and responsibilities, and the uses and users of the system.

Any persons interested in commenting on the altered system of records may do so by submitting comments in writing to Margaret P. Grafeld, Director; Office of Information Programs and Services; A/ISS/IPS; Department of State, SA-2; Washington, DC 20522-8001. This system of records will be effective 40 days from the date of publication, unless we receive comments that will result in a contrary determination.

The altered system description, “Refugee Processing Center Records, State-60,” will read as set forth below.

Dated: July 6, 2007.
Raj Chellaraj,
Assistant Secretary for the Bureau of Administration Department of State.

State-60

System name:

Refugee Processing Center Records

Security classification:

Unclassified

System location:

Refugee Processing Center, 1401 Wilson Boulevard, Suite 700, Arlington, VA 22209.

Categories of individuals covered by the system:

Individuals who apply for admission to the United States under the U.S. refugee program.

Categories of records in the system:

The categories of records maintained by the Refugee Processing Center are primarily the electronic master records of overseas refugee applications in the Worldwide Refugee Admissions Processing System (WRAPS), data input records related to processing steps performed by the Refugee Processing Center, periodic and ad hoc statistical and case status reports related to refugee processing, systems documentation for WRAPS, WRAPS training materials, and system audit reports. Records previously maintained under STATE-60 by the Refugee Data Center (RDC) in New York have been transferred to the Refugee Processing Center and comprise part of the records described above.

WRAPS includes electronic information on individual applicants for admission to the United States as refugees described under “Refugee Case Records,” as STATE-59. The case record is entered or scanned by overseas processing entities under cooperative agreement with the Department of State.

Records categories entered by the Refugee Processing Center include Affidavits of Relationship (AOR); voluntary agency interests; series of alien numbers (A#) transferred by U.S. Citizenship and Immigration Services (USCIS); electronic files with biographic data of refugees referred by the United Nations High Commissioner for Refugees (UNHCR); electronic files from the International Organization for Migration (IOM) with travel information; namecheck and other security clearances from the Bureau of Consular Affairs; and electronic files from voluntary agencies with sponsorship assurance and arrival data.

Authority for maintenance of the system:

8 U.S.C. 1522(b) (Authorization for Programs for Initial Domestic Resettlement of and Assistance to Refugees); 8 U.S.C. 1157 (Annual Admission of Refugees and Admission of Emergency Situation Refugees); Letter of President Carter of January 13, 1981, 17 Weekly Compilation of Presidential Documents, Pg. 2880 (Refugee Resettlement Grants Program).

Purpose(s):

The information contained in this system of records is collected and maintained by the Office of Admissions, Bureau of Population, Refugees, and Migration, in the administration of its responsibility for the U.S. refugee admissions program.

Routine uses of records maintained in the system, including categories of users and purposes of such uses:

The primary use of records in this system is to support the Bureau of Population, Refugees and Migration in tracking and managing case processing of applicants for the U.S. refugee program from application through the initial reception and placement in the United States of those individuals approved for resettlement. Centralized electronic storage and retrieval helps operational managers in the Department and the field identify and resolve processing delays, plan more accurately for refugee arrivals, improve program analysis, and preserve field records in case of evacuation or disasters in overseas processing locations. Only employees of the Refugee Processing Center have unrestricted access to records in this system.

Routine disclosure of information from these records includes:

(1) To employees and contractors of the Department of State, including the Bureau of Population, Refugees and Migration, overseas processing entities under cooperative agreement with the Department of State, and U.S. embassies or consulates, to coordinate and manage the U.S. refugee admissions program. The level of access to records depends on the user's official function.

(2) To the U.S. Citizenship and Immigration Services (USCIS) to determine the eligibility and admissibility of individuals applying for admission to the United States as refugees.

(3) To the International Organization for Migration (IOM) to arrange appropriate transportation to the United States, including departure and transit formalities.

(4) To the United Nations High Commissioner for Refugees (UNHCR) to coordinate resettlement and protection activities.

(5) To members of Congress or other Federal, State, and local government agencies having statutory or other lawful authority, as needed for the formulation, amendment, administration, or enforcement of immigration, nationality, and other laws of the United States.

(6) See also the “Routine Uses” paragraph of the Department's Prefatory Statement published in the Federal Register November 10, 2004.

(7) Additional routine uses include:

a. Biographic, educational, employment, and medical information may be disclosed to voluntary agency sponsors to ensure appropriate resettlement in the United States.

b. Statistical and demographic information from these records may be disclosed to state refugee coordinators, health officials, and interested community organizations.

c. Arrival and address information may be disclosed to consumer reporting agencies (31 U.S.C. 3711), debt collection contractors (31 U.S.C. 3718), and the Department of Treasury (31 U.S.C. 3716) to assist in the collection of indebtedness reassigned to the U.S. Government under the refugee travel loan program administered by the International Organization for Migration (IOM).

Policies and practices for storing, retrieving, accessing, retaining and disposing of records in the system:

Storage:

Electronic media, hard copy.

Retrievability:

Individual name, case number, alien number, and sponsor name.

Safeguards:

All employees of the Department of State and contractor personnel of the Refugee Processing Center have undergone a background security check. Access to the Department and its annexes is controlled by security guards and admission is limited to those individuals possessing a valid identification card or individuals under proper escort. All records containing personal information are maintained in secured file cabinets or in restricted areas, access to which is limited to authorized personnel. Access to computerized files is password-protected and under the direct supervision of the system manager. The system manager can monitor and audit trails of access.

Retention and disposal:

These records will be maintained under existing records schedules approved by the National Archives and Records Administration for Refugee Data Center (RDC) records, STATE-60, until the Department of State receives approval from the National Archives and Records Administration for proposed records schedules for the Refugee Processing Center. More specific information may be obtained by writing to the Director; Office of Information Programs and Services; SA-2; Department of State; 515 22nd Street, NW.; Washington, DC 20522-8100.

System manager and address:

Director; Office of Admissions; Bureau of Population, Refugees and Migration; SA-1, Suite L-505; Department of State; 2401 E Street, NW., Washington, DC 20522.

Notification procedure:

Individuals who have reason to believe that the Office of Admissions might have records pertaining to themselves should write to the Director; Office of Information Programs and Services; SA-2; Department of State; 515 22nd Street, NW., Washington, DC 20522-8100. The individual must specify that he/she wishes the Refugee Processing Center Records to be checked. At a minimum, the individual should include: name (and any aliases); date and place of birth; the approximate date of arrival in the United States; his/her immigration “A” number; current mailing address and zip code; and signature.

Record access and amendment procedures:

Individuals who wish to gain access to or amend records pertaining to themselves should write to the Director; Office of Information Programs and Services (address above).

Record source categories:

These records contain information obtained primarily from the individual who is the subject of these records, relatives, sponsors, members of Congress, U.S. Government agencies, overseas processing entities, voluntary agencies, international organizations, and local sources at overseas posts.

Systems exempted from certain provisions of the Act:

Certain records within this system of records are exempted from 5 U.S.C. 552a(c)(3), (d), (e)(10), (e)(4)(G), (H), and (I), and (f). See Department of State Rules published in the Federal Register.

[FR Doc. E7-15691 Filed 8-9-07; 8:45 am]

BILLING CODE 4710-24-P